DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 governs the application, processing, and disposition of petitions for modification of mandatory safety standards. Any mine operator or representative of miners may petition for an alternative method of complying with an existing safety standard. MSHA reviews the content of each submitted petition, assesses the equipment and system(s) proposed at the mine in question, and ultimately issues a decision on the petition. This notice includes a list of petitions for modification that were granted after MSHA's review and investigation, between January 1, 2025, and June 30, 2025.

ADDRESSES: Copies of the final decisions are posted on MSHA's website at https://www.msha.gov/regulations/rulemaking/petitions-modification. The public may inspect the petitions and final decisions in person at MSHA. To arrange an in-person visit, call 202-693-9440 or contact petitionsformodification@dol.gov.

FOR FURTHER INFORMATION CONTACT: Jessica D. Senk, Acting Director, Office of Standards, Regulations, and Variances, MSHA at 202-693-9440 (voice), petitionsformodification@dol.gov (email), or 202-693-9441 (facsimile). These are not toll-free numbers.

SUPPLEMENTARY INFORMATION:

I. Introduction

Under section 101(c) of the Federal Mine Safety and Health Act of 1977, any mine operator or representative of miners may petition to use an alternative approach to comply with a mandatory safety standard. In response, the Secretary of Labor (Secretary) or his or her designee may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the proposed equipment, system(s), and conditions at the mine. In some instances, MSHA may grant a petition for modification on the condition that the mine operator complies with other requirements noted in the decision. In other instances, MSHA may deny, dismiss, or revoke a petition for modification. In accordance with 30 CFR 44.5, MSHA publishes every final action granting a petition for modification.

II. Granted Petitions for Modification

On the basis of the findings of MSHA's investigation, and as designee of the Secretary, MSHA granted or partially granted the petitions for modification below. The previous Federal Register notice (90 FR 7711) included petitions granted through December 31, 2024. This notice includes petitions granted between January 1, 2025, and June 30, 2025. The granted petitions are shown in the order that MSHA received them.

• Docket Number: M-2022-019-C.

FR Notice: 87 FR 59120 (9/29/2022).

Petitioner: Signal Peak Energy, LLC, 100 Portal Drive, Roundup, MT 59072.

Mine: Bull Mountains Mine No. 1, MSHA ID No. 24-01950, located in Musselshell County, Montana.

Regulation Affected: 30 CFR 18.35(a)(5)(i) (Portable (trailing) cables and cords).

• Docket Number: M-2023-004-C.

FR Notice: 88 FR 34546 (5/30/2023).

Petitioner: Peabody Southeast Mining LLC, 701 Market Street, St. Louis, MO 63101.

Mine: Shoal Creek Mine, MSHA ID No. 01-02901, located in Tuscaloosa and Walker Counties, Alabama.

Regulation Affected: 30 CFR 75.500(d) (Permissible electric equipment).

• Docket Number: M-2023-005-C.

FR Notice: 88 FR 34544 (5/30/2023).

Petitioner: Peabody Southeast Mining LLC, 701 Market Street, St. Louis, MO 63101.

Mine: Shoal Creek Mine, MSHA ID No. 01-02901, located in Tuscaloosa and Walker Counties, Alabama.

Regulation Affected: 30 CFR 75.507-1(a) (Electric equipment other than power-connection points; outby the last open crosscut; return air; permissibility requirements).

• Docket Number: M-2023-006-C.

FR Notice: 88 FR 34545 (5/30/2023).

Petitioner: Peabody Southeast Mining LLC, 701 Market Street, St. Louis, MO 63101.

Mine: Shoal Creek Mine, MSHA ID No. 01-02901, located in Tuscaloosa and Walker Counties, Alabama.

Regulation Affected: 30 CFR 75.1002(a) (Installation of electric equipment and conductors; permissibility).

• Docket Number: M-2023-007-C.

FR Notice: 88 FR 25707 (4/27/2023).

Petitioner: Marfork Coal Company, LLC, P.O. Box 457, Whitesville, WV 25209.

Mine: Glen Alum Tunnel Mine, MSHA ID No. 46-09375, located in Raleigh County, West Virginia.

Regulation Affected: 30 CFR 75.1700 (Oil and gas wells).

• Docket Number: M-2023-012-C.

FR Notice: 88 FR 71380 (10/16/2023).

Petitioner: Warrior Met Coal Mining, LLC, 16243 Highway 216, Brookwood, AL 35444.

Mine: No. 4 Mine, MSHA ID No. 01-01247, located in Tuscaloosa County, Alabama. No. 7 Mine, MSHA ID No. 01-01401, located in Jefferson County, Alabama.

Regulation Affected: 30 CFR 75.900 (Low- and medium-voltage circuits serving three-phase alternating current equipment; circuit breakers).

• Docket Number: M-2023-027-C.

FR Notice: 89 FR 10103 (2/13/2024).

Petitioner: Mountain Coal Company, LLC, 5174 Highway 133, Somerset, CO 81434.

Mine: West Elk Mine, MSHA ID No. 05-03672, located in Gunnison County, Colorado.

Regulation Affected: 30 CFR 18.35(a)(5)(i) (Portable (trailing) cables and cords).

• Docket Number: M-2024-001-C.

FR Notice: 89 FR 20251 (3/21/2024).

Petitioner: River View Coal, LLC, 835 St. Route 1179, Waverly, KY 42462.

Mine: Henderson County Mine, MSHA ID No. 15-02709, located in Union County, Kentucky.

Regulation Affected: 30 CFR 18.35(a)(5)(i) (Portable (trailing) cables and cords).

• Docket Number: M-2024-003-C.

FR Notice: 89 FR 28812 (4/19/2024).

Petitioner: Elk Run Coal Company, LLC, P.O. Box 457, Whitesville, WV 25209.

Mine: Checkmate Powellton Mine, MSHA ID No. 46-09640, located in Boone County, West Virginia.

Regulation Affected: 30 CFR 75.1700 (Oil and gas wells).

• Docket Number: M-2024-004-C.

FR Notice: 89 FR 28808 (4/19/2024).

Petitioner: Rosebud Mining Company, 301 Market Street, Kittanning, PA 16201.

Mine: Fulton Run Mine, MSHA ID No. 36-10410, located in Indiana County, Pennsylvania.

Regulation Affected: 30 CFR 75.1700 (Oil and gas wells).

• Docket Number: M-2024-005-C.

FR Notice: 89 FR 58769 (7/19/2024).

Petitioner: Banner Blue Coal Company, 1073 Riverview Street, Grundy, VA 24614.

Mines: Paw Paw 2 South, MSHA ID No. 44-07401, located in Buchanan County, Virginia; Paw Paw 2, MSHA ID No. 15-19842, located in Pike County, Kentucky; and Shop Branch, MSHA ID No. 15-19866, located in Pike County, Kentucky.

Regulation Affected: 30 CFR 75.500(d) (Permissible electric equipment).

• Docket Number: M-2024-007-C.

FR Notice: 89 FR 62796 (8/1/2024).

Petitioner: Tunnel Ridge, LLC, 184 Schoolhouse Lane, Valley Grove, WV 26060.

Mine: Tunnel Ridge Mine, MSHA ID No. 46-08864, located in Ohio County, West Virginia.

Regulation Affected: 30 CFR 75.1700 (Oil and gas wells).

• Docket Number: M-2024-008-C.

FR Notice: 89 FR 62800 (8/1/2024).

Petitioner: Fossil Rock Resources, LLC, 5125 N Cottonwood Road, Orangeville, UT 84537.

Mine: Fossil Rock Mine, MSHA ID No. 42-01211, located in Emery County, Utah.

Regulation Affected: 30 CFR 75.1909(b)(6) (Service brakes on self-propelled nonpermissible diesel-powered equipment).

• Docket Number: M-2024-002-M.

FR Notice: 89 FR 80958 (10/4/2024).

Petitioner: Northern Star (Pogo), LLC, 3204 International Street, Fairbanks, AK 99702.

Mine: Pogo Mine, MSHA ID No. 50-01642, located in Southeast Fairbanks, Alaska.

Regulation Affected: 30 CFR 57.11052 (Refuge areas).

• Docket Number: M-2024-012-C.

FR Notice: 89 FR 81567 (10/8/2024).

Petitioner: Rockwell Mining, LLC, 4619 Bolt Road, Bolt, WV 25817.

Mine: Eagle #3 Mine, MSHA ID No. 46-09427, located in Wyoming County, West Virginia.

Regulation Affected: 30 CFR 75.1700 (Oil and gas wells).

• Docket Number: M-2024-016-C.

FR Notice: 89 FR 80940 (10/4/2024).

Petitioner: Warrior Coal, LLC, 57 J. E. Ellis Road, Madisonville, KY 42431.

Mine: Cardinal Mine, MSHA ID No. 15-17216, located in Hopkins County, Kentucky.

Regulation Affected: 30 CFR 75.500(d) (Permissible electric equipment).

• Docket Number: M-2024-017-C.

FR Notice: 89 FR 80955 (10/4/2024).

Petitioner: Warrior Coal, LLC, 57 J. E. Ellis Road, Madisonville, KY 42431.

Mine: Cardinal Mine, MSHA ID No. 15-17216, located in Hopkins County, Kentucky.

Regulation Affected: 30 CFR 75.507-1(a) (Electric equipment other than power-connection points; outby the last open crosscut; return air; permissibility requirements).

• Docket Number: M-2024-034-C.

FR Notice: 89 FR 90067 (11/14/2024).

Petitioner: Buchanan Minerals, LLC, PO Drawer L, Oakwood VA 24631.

Mine: Buchanan No.1 Mine, MSHA ID No. 44-04856, located in Buchanan County, Virginia.

Regulation Affected: 30 CFR 75.500(d) (Permissible electric equipment).

• Docket Number: M-2024-035-C.

FR Notice: 89 FR 90056 (11/14/2024).

Petitioner: Buchanan Minerals, LLC, P.O. Drawer L, Oakwood VA 24631.

Mine: Buchanan No.1 Mine, MSHA ID No. 44-04856, located in Buchanan County, Virginia.

Regulation Affected: 30 CFR 75.507-1(a) (Electric equipment other than power-connection points; outby the last open crosscut; return air; permissibility requirements).

• Docket Number: M-2024-036-C.

FR Notice: 89 FR 90062 (11/14/2024).

Petitioner: Buchanan Minerals, LLC, P.O. Drawer L, Oakwood VA 24631.

Mine: Buchanan No.1 Mine, MSHA ID No. 44-04856, located in Buchanan County, Virginia.

Regulation Affected: 30 CFR 75.1002(a) (Installation of electric equipment and conductors; permissibility).

• Docket Number: M-2024-018-C.

FR Notice: 89 FR 80950 (10/4/2024).

Petitioner: Hamilton County Coal, LLC, 18033 County Road 500 E, Dahlgren, IL 62828.

Mine: Mine No. 1 Mine, MSHA ID No. 11-03203, located in Hamilton County, Illinois.

Regulation Affected: 30 CFR 75.500(d) (Permissible electric equipment).

• Docket Number: M-2024-019-C.

FR Notice: 89 FR 80957 (10/4/2024).

Petitioner: Hamilton County Coal, LLC, 18033 County Road 500 E, Dahlgren, IL 62828.

Mine: Mine No. 1 Mine, MSHA ID No. 11-03203, located in Hamilton County, Illinois.

Regulation Affected: 30 CFR 75.507-1(a) (Electric equipment other than power-connection points; outby the last open crosscut; return air; permissibility requirements).

• Docket Number: M-2024-020-C.

FR Notice: 89 FR 80936 (11/4/2024).

Petitioner: Hamilton County Coal, LLC, 18033 County Road 500 E, Dahlgren, IL 62828.

Mine: Mine No. 1 Mine, MSHA ID No. 11-03203, located in Hamilton County, Illinois.

Regulation Affected: 30 CFR 75.1002(a) (Installation of electric equipment and conductors; permissibility).

• Docket Number: M-2024-014-C.

FR Notice: 89 FR 80941 (10/4/2024).

Petitioner: Gibson County Coal, LLC, 3455 S 700 W, Owensville, IN 47665.

Mine: Gibson South Mine, MSHA ID No. 12-02388, located in Gibson County, Indiana.

Regulation Affected: 30 CFR 75.500(d) (Permissible electric equipment).

• Docket Number: M-2024-015-C.

FR Notice: 89 FR 80953 (10/4/2024).

Petitioner: Gibson County Coal, LLC, 3455 S 700 W, Owensville, IN 47665.

Mine: Gibson South Mine, MSHA ID No. 12-02388, located in Gibson County, Indiana.

Regulation Affected: 30 CFR 75.507-1(a) (Electric equipment other than power-connection points; outby the last open crosscut; return air; permissibility requirements).

• Docket Number: M-2024-021-C.

FR Notice: 89 FR 81572 (10/8/2024).

Petitioner: River View Coal, LLC, 835 State Route 1179, Waverly, KY 42462.

Mine: River View Mine, MSHA ID No. 15-19374, located in Union County, Kentucky.

Regulation Affected: 30 CFR 75.500(d) (Permissible electric equipment).

• Docket Number: M-2024-022-C.

FR Notice: 89 FR 81559 (10/8/2024).

Petitioner: River View Coal, LLC, 835 State Route 1179, Waverly, KY 42462.

Mine: River View Mine, MSHA ID No. 15-19374, located in Union County, Kentucky.

Regulation Affected: 30 CFR 75.507-1(a) (Permissible electric equipment).

• Docket Number: M-2024-023-C.

FR Notice: 89 FR 81560 (10/8/2024).

Petitioner: River View Coal, LLC, 835 State Route 1179, Waverly, KY 42462.

Mine: Henderson County Mine, MSHA ID No. 15-02709, located in Union County, Kentucky.

Regulation Affected: 30 CFR 75.500(d) (Permissible electric equipment).

• Docket Number: M-2024-024-C.

FR Notice: 89 FR 81553 (10/8/2024).

Petitioner: River View Coal, LLC, 835 State Route 1179, Waverly, KY 42462.

Mine: Henderson County Mine, MSHA ID No. 15-02709, located in Union County, Kentucky.

Regulation Affected: 30 CFR 75.507-1(a) (Electric equipment other than power-connection points; outby the last open crosscut; return air; permissibility requirements).

• Docket Number: M-2024-053-C.

FR Notice: 89 FR 90767 (11/18/2024).

Petitioner: Marfork Coal Company, LLC, P.O. Box 457, Whitesville, WV 25209.

Mine: Black Eagle Mine, MSHA ID No. 46-09550, located in Raleigh County, West Virginia.

Regulation Affected: 30 CFR 75.312(c) (Main mine fan examinations and records).

• Docket Number: M-2024-037-C.

FR Notice: 89 FR 90060 (11/14/2024).

Petitioner: ACI Tygart Valley, 1200 Tygart Drive, Grafton, WV 26354.

Mine: Leer Mine, MSHA ID No. 46-09192, located in Taylor County, West Virginia.

Regulation Affected: 30 CFR 75.507-1(a) (Electric equipment other than power-connection points; outby the last open crosscut; return air; permissibility requirements).

• Docket Number: M-2024-041-C.

FR Notice: 89 FR 90754 (11/8/2024).

Petitioner: Kingston Mining, Inc., 300 Running Right Way, Julian, WV 25529.

Mine: Kingston No. 2 Mine, MSHA ID No. 46-08932, located in Fayette County, West Virginia.

Regulation Affected: 30 CFR 75.500(d) (Permissible electric equipment).

• Docket Number: M-2024-042-C.

FR Notice: 89 FR 90749 (11/18/2024).

Petitioner: Kingston Mining, Inc., 300 Running Right Way, Julian, WV 25529.

Mine: Kingston No. 2 Mine, MSHA ID No. 46-08932, located in Fayette County, West Virginia.

Regulation Affected: 30 CFR 75.507-1(a) (Electric equipment other than power-connection points; outby the last open crosscut; return air; permissibility requirements).

• Docket Number: M-2024-043-C.

FR Notice: 89 FR 90747 (11/18/2024).

Petitioner: Kingston Mining, Inc., 300 Running Right Way, Julian, WV 25529.

Mine: Kingston No. 2 Mine, MSHA ID No. 46-08932, located in Fayette County, West Virginia.

Regulation Affected: 30 CFR 75.1002(a) (Installation of electric equipment and conductors; permissibility).

• Docket Number: M-2024-028-C.

FR Notice: 89 FR 81562 (10/8/2024).

Petitioner: Excel Mining, 4126 State Highway 194 W, Pikeville, KY 41501.

Mine: Excel #5 Mine, MSHA ID No. 15-19838, located in Pike County, Kentucky.

Regulation Affected: 30 CFR 75.500(d) (Permissible electric equipment).

• Docket Number: M-2024-029-C.

FR Notice: 89 FR 81555 (10/8/2024).

Petitioner: Excel Mining, 4126 State Highway 194 W, Pikeville, KY 41501.

Mine: Excel #5 Mine, MSHA ID No. 15-19838, located in Pike County, Kentucky.

Regulation Affected: 30 CFR 75.507-1(a) (Electric equipment other than power-connection points; outby the last open crosscut; return air; permissibility requirements).

• Docket Number: M-2024-030-C.

FR Notice: 89 FR 81557 (11/8/2024).

Petitioner: Excel Mining, 4126 State Highway 194 W, Pikeville, KY 41501.

Mine: Excel #5 Mine, MSHA ID No. 15-19838, located in Pike County, Kentucky.

Regulation Affected: 30 CFR 75.1002(a) (Installation of electric equipment and conductors; permissibility).

• Docket Number: M-2024-031-C.

FR Notice: 89 FR 81574 (10/8/2024).

Petitioner: Mettiki Coal WV, LLC, 293 Table Rock Road, Oakland, MD 21550.

Mine: Mountain View Mine, MSHA ID No. 46-09028, located in Davis, West Virginia.

Regulation Affected: 30 CFR 75.500(d) (Permissible electric equipment).

• Docket Number: M-2024-032-C.

FR Notice: 89 FR 81564 (10/8/2024).

Petitioner: Mettiki Coal WV, LLC, 293 Table Rock Road, Oakland, MD 21550.

Mine: Mountain View Mine, MSHA ID No. 46-09028, located in Davis, West Virginia.

Regulation Affected: 30 CFR 75.507-1(a) (Electric equipment other than power-connection points; outby the last open crosscut; return air; permissibility requirements).

• Docket Number: M-2024-033-C.

FR Notice: 89 FR 81566 (10/8/2024).

Petitioner: Mettiki Coal WV, LLC, 293 Table Rock Road, Oakland, MD 21550.

Mine: Mountain View Mine, MSHA ID No. 46-09028, located in Davis, West Virginia.

Regulation Affected: 30 CFR 75.1002(a) (Installation of electric equipment and conductors; permissibility).

• Docket Number: M-2024-038-C.

FR Notice: 89 FR 90070 (11/14/2024).

Petitioner: Tunnel Ridge, LLC, 184 Schoolhouse Lane Valley Grove, WV 26060.

Mine: Tunnel Ridge Mine, MSHA ID No. 46-08864, located in Ohio County, West Virginia.

Regulation Affected: 30 CFR 75.500(d) (Permissible electric equipment).

• Docket Number: M-2024-039-C.

FR Notice: 89 FR 90065 (11/14/2024).

Petitioner: Tunnel Ridge, LLC, 184 Schoolhouse Lane Valley Grove, WV 26060.

Mine: Tunnel Ridge Mine, MSHA ID No. 46-08864, located in Ohio County, West Virginia.

Regulation Affected: 30 CFR 75.507-1(a) (Electric equipment other than power-connection points; outby the last open crosscut; return air; permissibility requirements).

• Docket Number: M-2024-040-C.

FR Notice: 89 FR 90058 (11/14/2024).

Petitioner: Tunnel Ridge, LLC, 184 Schoolhouse Lane, Valley Grove, WV 26060.

Mine: Tunnel Ridge Mine, MSHA ID No. 46-08864, located in Ohio County, West Virginia.

Regulation Affected: 30 CFR 75.1002(a) (Installation of electric equipment and conductors; permissibility).

• Docket Number: M-2024-003-M.

FR Notice: 89 FR 96692 (12/5/2024).

Petitioner: South32 Hermosa, Inc., 749 Harshaw Rd., Patagonia, AZ 85624.

Mine: Hermosa Mine, MSHA ID No. 02-03398, located in Santa Cruz County, Arizona.

Regulation Affected: 30 CFR 57.11052(d) (Refuge areas).

• Docket Number: M-2024-044-C.

FR Notice: 89 FR 90766 (11/18/2024).

Petitioner: Panther Creek Mining, LLC, PO Box 99 Dawes, WV 25054.

Mine: Speed Mine, MSHA ID No. 46-05437, located in Kanawha County, West Virginia, and Winchester 2 Mine, MSHA ID No. 46-09615, located in Kanawha County, West Virginia.

Regulation Affected: 30 CFR 75.500(d) (Permissible electric equipment).

• Docket Number: M-2024-045-C.

FR Notice: 89 FR 90761 (11/18/2024).

Petitioner: Panther Creek Mining, LLC, PO Box 99 Dawes, WV 25054.

Mine: Speed Mine, MSHA ID No. 46-05437, located in Kanawha County, West Virginia, and Winchester 2 Mine, MSHA ID No. 46-09615, located in Kanawha County, West Virginia.

Regulation Affected: 30 CFR 75.507-1(a) (Electric equipment other than power-connection points; outby the last open crosscut; return air; permissibility requirements).

• Docket Number: M-2024-046-C.

FR Notice: 89 FR 90745 (11/18/2024).

Petitioner: Panther Creek Mining, LLC, PO Box 99 Dawes, WV 25054.

Mine: Speed Mine, MSHA ID No. 46-05437, located in Kanawha County, West Virginia, and Winchester 2 Mine, MSHA ID No. 46-09615, located in Kanawha County, West Virginia.

Regulation Affected: 30 CFR 75.1002(a) (Installation of electric equipment and conductors; permissibility).

• Docket Number: M-2024-047-C.

FR Notice: 89 FR 90751 (11/18/2024).

Petitioner: Greenbrier Minerals, LLC, 119 Rich Creek Road, Lyburn, WV 25632.

Mines: Powellton #1 Mine, MSHA ID No. 46-09217, located in Logan County, West Virginia; Lower War Eagle, MSHA ID No. 46-09319, located in Wyoming County, West Virginia; Muddy Bridge, Mine ID No. 46-09514, located in Logan County, West Virginia; Eagle No. 1 Mine, Mine ID No. 46-09563, located in Logan County, West Virginia.

Regulation Affected: 30 CFR 75.500(d) (Permissible electric equipment).

• Docket Number: M-2024-048-C.

FR Notice: 89 FR 90756 (11/18/2024).

Petitioner: Greenbrier Minerals, LLC, 119 Rich Creek Road, Lyburn, WV 25632.

Mines: Powellton #1 Mine, MSHA ID No. 46-09217, located in Logan County, West Virginia; Lower War Eagle, MSHA ID No. 46-09319, located in Wyoming County, West Virginia; Muddy Bridge, Mine ID No. 46-09514, located in Logan County, West Virginia; Eagle No. 1 Mine, Mine ID No. 46-09563, located in Logan County, West Virginia.

Regulation Affected: 30 CFR 75.507-1(a) (Electric equipment other than power-connection points; outby the last open crosscut; return air; permissibility requirements).

• Docket Number: M-2024-049-C.

FR Notice: 89 FR 90742 (11/18/2024).

Petitioner: Greenbrier Minerals, LLC, 119 Rich Creek Road, Lyburn, WV 25632.

Mines: Powellton #1 Mine, MSHA ID No. 46-09217, located in Logan County, West Virginia; Lower War Eagle, MSHA ID No. 46-09319, located in Wyoming County, West Virginia; Muddy Bridge, Mine ID No. 46-09514, located in Logan County, West Virginia; Eagle No. 1 Mine, Mine ID No. 46-09563, located in Logan County, West Virginia.

Regulation Affected: 30 CFR 75.1002(a) (Installation of electric equipment and conductors; permissibility).

• Docket Number: M-2024-050-C.

FR Notice: 89 FR 90762 (11/18/2024).

Petitioner: Panther Creek Mining, LLC, 250 West Main Street, Suite 2000 Lexington, KY 40507.

Mine: Maple Eagle #1 Mine, MSHA ID No. 46-04236, located in Fayette County, West Virginia.

Regulation Affected: 30 CFR 75.500(d) (Permissible electric equipment).

• Docket Number: M-2024-051-C.

FR Notice: 89 FR 90764 (11/18/2024).

Petitioner: Panther Creek Mining, LLC, 250 West Main Street, Suite 2000 Lexington, KY 40507.

Mine: Maple Eagle #1 Mine, MSHA ID No. 46-04236, located in Fayette County, West Virginia.

Regulation Affected: 30 CFR 75.507-1(a) (Electric equipment other than power-connection points; outby the last open crosscut; return air; permissibility requirements).

• Docket Number: M-2024-052-C.

FR Notice: 89 FR 90759 (11/18/2024).

Petitioner: Panther Creek Mining, LLC, 250 West Main Street, Suite 2000 Lexington, KY 40507.

Mine: Maple Eagle #1 Mine, MSHA ID No. 46-04236, located in Fayette County, West Virginia.

Regulation Affected: 30 CFR 75.1002(a) (Installation of electric equipment and conductors; permissibility).

• Docket Number: M-2024-066-C.

FR Notice: 89 FR 96681 (12/5/2024).

Petitioner: Kanawha Eagle Mining, LLC, P.O. Box 189, Comfort, WV 25049.

Mine: Winchester Peerless Rachel Mine, MSHA ID No. 46-09258, located in Boone County, West Virginia.

Regulation Affected: 30 CFR 75.500(d) (Permissible electric equipment).

• Docket Number: M-2024-067-C.

FR Notice: 89 FR 96690 (12/5/2024).

Petitioner: Kanawha Eagle Mining, LLC, P.O. Box 189, Comfort, WV 25049.

Mine: Winchester Peerless Rachel Mine, MSHA ID No. 46-09258, located in Boone County, West Virginia.

Regulation Affected: 30 CFR 75.507-1(a) (Electric equipment other than power-connection points; outby the last open crosscut; return air; permissibility requirements).

• Docket Number: M-2024-068-C.

FR Notice: 89 FR 96686 (12/5/2024).

Petitioner: Kanawha Eagle Mining, LLC, P.O. Box 189, Comfort, WV 25049.

Mine: Winchester Peerless Rachel Mine, MSHA ID No. 46-09258, located in Boone County, West Virginia.

Regulation Affected: 30 CFR 75.1002(a) (Installation of electric equipment and conductors; permissibility).

• Docket Number: M-2024-069-C.

FR Notice: 89 FR 96683 (12/5/2024).

Petitioner: Kanawha Eagle Mining, LLC, P.O. Box 189, Comfort, WV 25049.

Mine: North Eagle Mine, MSHA ID No. 46-08759, located in Boone County, West Virginia.

Regulation Affected: 30 CFR 75.500(d) (Permissible electric equipment).

• Docket Number: M-2024-070-C.

FR Notice: 89 FR 96688 (12/5/2024).

Petitioner: Kanawha Eagle Mining, LLC, P.O. Box 189, Comfort, WV 25049.

Mine: North Eagle Mine, MSHA ID No. 46-08759, located in Boone County, West Virginia.

Regulation Affected: 30 CFR 75.507-1(a) Electric equipment other than power-connection points; outby the last open crosscut; return air; permissibility requirements).

• Docket Number: M-2024-071-C.

FR Notice: 89 FR 96685 (12/5/2024).

Petitioner: Kanawha Eagle Mining, LLC, P.O. Box 189, Comfort, WV 25049.

Mine: North Eagle Mine, MSHA ID No. 46-08759, located in Boone County, West Virginia.

Regulation Affected: 30 CFR 75.1002(a) (Installation of electric equipment and conductors; permissibility).

• Docket Number: M-2024-076-C.

FR Notice: 89 FR 99287 (12/10/2024).

Petitioner: Rockwell Mining, LLC, 250 West Main Street, Suite 2000 Lexington, KY 40507.

Mine: Eagle #3 Mine, MSHA ID No. 46-09427, located in Wyoming County, West Virginia.

Regulation Affected: 30 CFR 75.500(d) (Permissible electric equipment).

• Docket Number: M-2024-077-C.

FR Notice: 89 FR 99911 (12/11/2024).

Petitioner: Rockwell Mining, LLC, 250 West Main Street, Suite 2000, Lexington, KY 40507.

Mine: Eagle #3 Mine, MSHA ID No. 46-09427, located in Wyoming County, West Virginia.

Regulation Affected: 30 CFR 75.507-1(a) (Electric equipment other than power-connection points; outby the last open crosscut; return air; permissibility requirements).

• Docket Number: M-2024-078-C.

FR Notice: 89 FR 99909 (12/11/2024).

Petitioner: Rockwell Mining, LLC, 250 West Main Street, Suite 2000, Lexington, KY 40507.

Mine: Eagle #3 Mine, MSHA ID No. 46-09427, located in Wyoming County, West Virginia.

Regulation Affected: 30 CFR 75.1002(a) (Installation of electric equipment and conductors; permissibility).

• Docket Number: M-2024-079-C.

FR Notice: 89 FR 100547 (12/12/2024).

Petitioner: Rockwell Mining, LLC, 250 West Main Street, Suite 2000, Lexington, KY, 40507.

Mine: Flying Eagle Mine, MSHA ID No. 46-09471, located in Wyoming County, West Virginia.

Regulation Affected: 30 CFR 75.500(d) (Permissible electric equipment).

• Docket Number: M-2024-080-C.

FR Notice: 89 FR 100545 (12/12/2024).

Petitioner: Rockwell Mining, LLC, 250 West Main Street, Suite 2000, Lexington, KY 40507.

Mine: Flying Eagle Mine, MSHA ID No. 46-09471, located in Wyoming County, West Virginia.

Regulation Affected: 30 CFR 75.507-1(a) (Electric equipment other than power-connection points; outby the last open crosscut; return air; permissibility requirements).

• Docket Number: M-2024-081-C.

FR Notice: 89 FR 100543 (12/12/2024).

Petitioner: Rockwell Mining, LLC, 250 West Main Street, Suite 2000 Lexington, KY 40507.

Mine: Flying Eagle Mine, MSHA ID No. 46-09471, located in Wyoming County, West Virginia.

Regulation Affected: 30 CFR 75.1002(a) (Installation of electric equipment and conductors; permissibility).

• Docket Number: M-2024-082-C.

FR Notice: 89 FR 101631 (12/16/2024).

Petitioner: Rockwell Mining, LLC, 250 West Main Street, Suite 2000 Lexington, KY 40507.

Mine: Coal Branch No. 1 Mine, MSHA ID No. 46-09588, located in Boone County, West Virginia.

Regulation Affected: 30 CFR 75.500(d) (Permissible electric equipment).

• Docket Number: M-2024-083-C.

FR Notice: 89 FR 101632 (12/16/2024).

Petitioner: Rockwell Mining, LLC, 250 West Main Street, Suite 2000 Lexington, KY 40507.

Mine: Coal Branch No. 1 Mine, MSHA ID No. 46-09588, located in Boone County, West Virginia.

Regulation Affected: 30 CFR 75.507-1(a) (Electric equipment other than power-connection points; outby the last open crosscut; return air; permissibility requirements).

• Docket Number: M-2024-084-C.

FR Notice: 89 FR 101634 (12/16/2024).

Petitioner: Rockwell Mining, LLC, 250 West Main Street, Suite 2000, Lexington, KY 40507.

Mine: Coal Branch No. 1 Mine, MSHA ID No. 46-09588, located in Boone County, West Virginia.

Regulation Affected: 30 CFR 75.1002(a) (Installation of electric equipment and conductors; permissibility).

• Docket Number: M-2024-085-C.

FR Notice: 89 FR 101638 (12/16/2024).

Petitioner: Rockwell Mining, LLC, 250 West Main Street, Suite 2000, Lexington, KY 40507.

Mine: Coal Branch No. 2 Mine, MSHA ID No. 46-09663, located in Wyoming County, West Virginia.

Regulation Affected: 30 CFR 75.500(d) (Permissible electric equipment).

• Docket Number: M-2024-086-C.

FR Notice: 89 FR 101636 (12/16/2024).

Petitioner: Rockwell Mining, LLC, 250 West Main Street, Suite 2000, Lexington, KY 40507.

Mine: Coal Branch No. 2 Mine, MSHA ID No. 46-09663, located in Wyoming County, West Virginia.

Regulation Affected: 30 CFR 75.507-1(a) (Electric equipment other than power-connection points; outby the last open crosscut; return air; permissibility requirements).

• Docket Number: M-2024-087-C.

FR Notice: 89 FR 101639 (12/16/2024).

Petitioner: Rockwell Mining, LLC, 250 West Main Street, Suite 2000, Lexington, KY 40507.

Mine: Coal Branch No. 2 Mine, MSHA ID No. 46-09663, located in Wyoming County, West Virginia.

Regulation Affected: 30 CFR 75.1002(a) (Installation of electric equipment and conductors; permissibility).

• Docket Number: M-2024-089-C.

FR Notice: 89 FR 106596 (12/30/2024).

Petitioner: Mingo Logan Coal, LLC, Sharples, WV 25183.

Mine: Mountaineer II Mine, MSHA ID No. 46-09029, located in Logan County, West Virginia.

Regulation Affected: 30 CFR 75.507-1(a) (Electric equipment other than power-connection points; outby the last open crosscut; return air; permissibility requirements).

• Docket Number: M-2024-072-C.

FR Notice: 89 FR 106598 (12/30/2024).

Petitioner: Harrison County Coal Resources, Inc., 464 North Portal Rd., Wallace, WV 26448.

Mine: Harrison County Mine, MSHA ID No. 46-01318, located in Marion County, West Virginia.

Regulation Affected: 30 CFR 75.503 (Permissible electric face equipment; maintenance; Specified in 30 CFR 18.35(a)(5)(i) (Portable (trailing) cables and cords).

• Docket Number: M-2025-001-C.

FR Notice: 90 FR 9921 (2/19/2025).

Petitioner: Blue Diamond Coal Co., 250 West Main Street, Suite 2000, Lexington, KY 40507.

Mine: Mine No. 77, MSHA ID No. 15-09636, located in Perry County, Kentucky.

Regulation Affected: 30 CFR 75.500(d) (Permissible electric equipment).

• Docket Number: M-2025-002-C.

FR Notice: 90 FR 9926 (2/19/2025).

Petitioner: Blue Diamond Coal Co., 250 West Main Street, Suite 2000, Lexington, KY 40507.

Mine: Mine No.77, MSHA ID No. 15-09636, located in Perry County, Kentucky.

Regulation Affected: 30 CFR 75.507-1(a) (Electric equipment other than power-connection points; outby the last open crosscut; return air; permissibility requirements).

• Docket Number: M-2025-003-C.

FR Notice: 90 FR 9930 (2/19/2025).

Petitioner: Blue Diamond Coal Co., 250 West Main Street, Suite 2000, Lexington, KY 40507.

Mine: Mine No.77, MSHA ID No. 15-09636, located in Perry County, Kentucky.

Regulation Affected: 30 CFR 75.1002(a) (Installation of electric equipment and conductors; permissibility).

• Docket Number: M-2025-004-C.

FR Notice: 90 FR 9918 (2/19/2025).

Petitioner: Blue Diamond Coal Co., 250 West Main Street, Suite 2000, Lexington, KY 40507.

Mine: Calvary No. 81, MSHA ID No. 15-12753, located in Leslie County, Kentucky.

Regulation Affected: 30 CFR 75.500(d) (Permissible electric equipment).

• Docket Number: M-2025-005-C.

FR Notice: 90 FR 9928 (2/19/2025).

Petitioner: Blue Diamond Coal Co., 250 West Main Street, Suite 2000, Lexington, KY 40507.

Mine: Calvary No. 81, MSHA ID No. 15-12753, located in Leslie County, Kentucky.

Regulation Affected: 30 CFR 75.507-1(a) (Electric equipment other than power-connection points; outby the last open crosscut; return air; permissibility requirements).

• Docket Number: M-2025-006-C.

FR Notice: 90 FR 9916 (2/19/2025)

Petitioner: Blue Diamond Coal Co., 250 West Main Street, Suite 2000, Lexington, KY 40507.

Mine: Calvary No. 81, MSHA ID No. 15-12753, located in Leslie County, Kentucky.

Regulation Affected: 30 CFR 75.1002(a) (Installation of electric equipment and conductors; permissibility).

• Docket Number: M-2025-007-C.

FR Notice: 90 FR 9925 (2/19/2025).

Petitioner: Blue Diamond Coal Co., 250 West Main Street, Suite 2000, Lexington, KY 40507.

Mine: Bear Branch 2, MSHA ID No. 15-18565, located in Perry County, Kentucky.

Regulation Affected: 30 CFR 75.500(d) (Permissible electric equipment).

• Docket Number: M-2025-008-C.

FR Notice: 90 FR 9923 (2/19/2025).

Petitioner: Blue Diamond Coal Co., 250 West Main Street, Suite 2000, Lexington, KY 40507.

Mine: Bear Branch 2, MSHA ID No. 15-18565, located in Perry County, Kentucky.

Regulation Affected: 30 CFR 75.507-1(a) (Electric equipment other than power-connection points; outby the last open crosscut; return air; permissibility requirements).

• Docket Number: M-2025-009-C.

FR Notice: 90 FR 9920 (2/19/2025).

Petitioner: Blue Diamond Coal Co., 250 West Main Street, Suite 2000, Lexington, KY 40507.

Mine: Bear Branch 2, MSHA ID No. 15-18565, located in Perry County, Kentucky.

Regulation Affected: 30 CFR 75.1002(a) (Installation of electric equipment and conductors; permissibility).

• Docket Number: M-2025-002-M.

FR Notice: 90 FR 11076 (3/3/2025).

Petitioner: Grefco Minerals, LLC, 36904 Summit Lake Road, Burney, CA 96013.

Mine: Grefco Mine & Mill, MSHA ID No. 26-00125, located in Nye County, Nevada.

Regulation Affected: 30 CFR 56.20001 (Intoxicating beverages and narcotics).

• Docket Number: M-2025-019-C.

FR Notice: 90 FR 13214 (3/20/2025).

Petitioner: ICG Beckley, LLC, P.O. Box 49, Eccles, WV 25836.

Mine: Beckley Pocahontas Mine, MSHA ID No. 46-05252, located in Raleigh County, West Virginia.

Regulation Affected: 30 CFR 75.500(d) (Permissible electric equipment).

• Docket Number: M-2025-020-C.

FR Notice: 90 FR 13208 (3/20/2025).

Petitioner: ICG Beckley, LLC, P.O. Box 49, Eccles, WV 25836.

Mine: Beckley Pocahontas Mine, MSHA ID No. 46-05252, located in Raleigh County, West Virginia.

Regulation Affected: 30 CFR 75.507-1(a) (Electric equipment other than power-connection points; outby the last open crosscut; return air; permissibility requirements).

• Docket Number: M-2025-021-C.

FR Notice: 90 FR 13203 (3/20/2025).

Petitioner: ICG Beckley, LLC, P.O. Box 49, Eccles, WV 25836.

Mine: Beckley Pocahontas Mine, MSHA ID No. 46-05252, located in Raleigh County, West Virginia.

Regulation Affected: 30 CFR 75.1002(a) (Installation of electric equipment and conductors; permissibility).

• Docket Number: M-2025-022-C.

FR Notice: 90 FR 13213 (3/20/2025).

Petitioner: Sunrise Coal, LLC, 1183 East Canvasback Drive, Terre Haute, IN 47802.

Mine: Oaktown Fuels Mine No. 1, MSHA ID No. 12-02394, located in Knox County, Indiana; Oaktown Fuels Mine No. 2, MSHA ID No. 12-02418, located in Knox County, Indiana.

Regulation Affected: 30 CFR 75.500(d) (Permissible electric equipment).

• Docket Number: M-2025-023-C.

FR Notice: 90 FR 13205 (3/20/2025).

Petitioner: ACI Tygart Valley, 1200 Tygart Drive, Grafton, WV 26354.

Mine: Leer Mine, MSHA ID No. 46-09192, located in Taylor County, West Virginia.

Regulation Affected: 30 CFR 75.500(d) (Permissible electric equipment).

• Docket Number: M-2025-024-C.

FR Notice: 90 FR 13210 (3/20/2025).

Petitioner: ACI Tygart Valley, 1200 Tygart Drive, Grafton, WV 26354.

Mine: Leer Mine, MSHA ID No. 46-09192, located in Taylor County, West Virginia.

Regulation Affected: 30 CFR 75.1002(a) (Installation of electric equipment and conductors; permissibility).

• Docket Number: M-2025-033-C.

FR Notice: 90 FR 16565 (4/18/2025).

Petitioner: ACNR Holdings, Inc., 46226 National Road, St. Clairsville, OH 43950.

Mines: Ohio County Mine, MSHA ID No. 46-01436, located in Marshall County, West Virginia; Marshall County Mine, MSHA ID No. 46-01437, located in Marshall County, West Virginia; Marion County Mine, MSHA ID No. 46-01433, located in Marion County, West Virginia; Harrison County Mine, MSHA ID No. 46-01318, located in Wetzel County, West Virginia.

Regulation Affected: 30 CFR 75.500(d) (Permissible electric equipment).

• Docket Number: M-2025-034-C.

FR Notice: 90 FR 16576 (4/18/2025).

Petitioner: ACNR Holdings, Inc., 46226 National Road, St. Clairsville, OH 43950.

Mines: Ohio County Mine, MSHA ID No. 46-01436, located in Marshall County, West Virginia; Marshall County Mine, MSHA ID No. 46-01437, located in Marshall County, West Virginia; Marion County Mine, MSHA ID No. 46-01433, located in Marion County, West Virginia; Harrison County Mine, MSHA ID No. 46-01318, located in Wetzel County, West Virginia.

Regulation Affected: 30 CFR 75.507-1(a) (Permissible electric equipment).

• Docket Number: M-2025-035-C.

FR Notice: 90 FR 16566 (4/18/2025).

Petitioner: ACNR Holdings, Inc., 46226 National Road, St. Clairsville, OH 43950.

Mines: Ohio County Mine, MSHA ID No. 46-01436, located in Marshall County, West Virginia; Marshall County Mine, MSHA ID No. 46-01437, located in Marshall County, West Virginia; Marion County Mine, MSHA ID No. 46-01433, located in Marion County, West Virginia; Harrison County Mine, MSHA ID No. 46-01318, located in Wetzel County, West Virginia.

Regulation Affected: 30 CFR 75.1002(a) (Installation of electric equipment and conductors; permissibility).

• Docket Number: M-2025-028-C.

FR Notice: 90 FR 16573 (4/18/2025).

Petitioner: Mingo Logan Coal, LLC, P.O. Box E, Sharples, WV 25183.

Mine: Mountaineer II Mine, MSHA ID No. 46-09029, located in Logan County, West Virginia.

Regulation Affected: 30 CFR 75.500(d) (Permissible electric equipment).

• Docket Number: M-2025-029-C.

FR Notice: 90 FR 16563 (4/18/2025).

Petitioner: Mingo Logan Coal, LLC, P.O. Box E, Sharples, WV 25183.

Mine: Mountaineer II Mine, MSHA ID No. 46-09029, located in Logan County, West Virginia.

Regulation Affected: 30 CFR 75.1002(a) (Installation of electric equipment and conductors; permissibility).

Jessica D. Senk,
Acting Director, Office of Standards, Regulations, and Variances.

[FR Doc. 2025-13190 Filed 7-14-25; 8:45 am]

BILLING CODE 4520-43-P